DEPARTMENT OF COMMERCE

International Trade Administration

[C-557-822]

Utility Scale Wind Towers From Malaysia: Preliminary Results and Partial Rescission of Countervailing Duty Administrative Review, 2021

AGENCY: Enforcement and Compliance, International Trade Administration, U.S. Department of Commerce.

SUMMARY: The U.S. Department of Commerce (Commerce) is conducting an administrative review of the countervailing duty order on utility scale wind towers (wind towers) from Malaysia. Commerce preliminarily finds that CS Wind Malaysia Sdn Bhd (CS Wind) received countervailable subsidies during the period of review (POR), March 25, 2021, through December 31, 2021. We invite interested parties to comment on these preliminary results.

DATES: Applicable September 7, 2023.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On October 11, 2022, Commerce initiated an administrative review of the countervailing duty order on wind towers from Malaysia,¹ in accordance with section 751(a) of the Tariff Act of 1930, as amended (the Act),² with respect to 11 companies. Commerce selected CS Wind for individual examination.³ On April 19, 2023, Commerce extended the deadline for the preliminary results of this administrative review until August 31, 2023.⁴

¹ See Utility Scale Wind Towers from Malaysia: Countervailing Duty Order, 86 FR 41950 (August 4, 2021) (Order).

² See Initiation of Antidumping and Countervailing Duty Administrative Reviews, 87 FR 61278 (October 11, 2022).

³ See Memorandum “Respondent Selection,” dated November 15, 2022.

⁴ See Memorandum, “Extension of Deadline for Preliminary Results of Countervailing Duty Administrative Review,” dated April 19, 2023.

For details regarding the events that followed the initiation of the review, see the Preliminary Decision Memorandum.⁵ A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

⁵ See Memorandum, “Decision Memorandum for the Preliminary Results of the Countervailing Duty Administrative Review, 2021: Utility Scale Wind Towers from Malaysia,” dated concurrently with, and hereby adopted by, this notice (Preliminary Decision Memorandum).

Scope of the Order

The products covered by the Order are wind towers from Malaysia. For a full description of the scope, see the Preliminary Decision Memorandum.

Rescission of Administrative Review, in Part

Based on our analysis of U.S. Customs and Border Protection (CBP) data, we determined that there were no reviewable entries during the POR for the following companies: CS Wind Corporation; CS Wind China Co., Ltd; CS Wind Taiwan Ltd; CS Wind Turkey Kule Imaltati A.S; CS Wind UK Limited; CS Wind Vietnam Co., Ltd; GE Renewable Energy; GE Renewable Malaysia Sdn. Bhd; Nordex SE; and Siemens Gamesa Renewable Energy.⁶ On November 28, 2022, we notified parties that we intended to rescind this administrative review with respect to these companies because there are no reviewable suspended entries. No parties commented on the notification of intent to rescind the review, in part. Therefore, in accordance with 19 CFR 351.213(d)(3), Commerce is rescinding this review with respect to these companies.

⁶ See Memorandum, “Notice of Intent to Rescind Review, In Part,” dated November 28, 2022.

Methodology

We are conducting this review in accordance with section 751(a)(1)(A) of the Act. For each of the subsidy programs found countervailable, we preliminarily determine that there is a subsidy, i.e., a financial contribution from an “authority” that confers a benefit to the recipient, and that the subsidy is specific.⁷ For a full description of the methodology underlying these preliminary results, see the Preliminary Decision Memorandum.

⁷ See sections 771(5)(B) and (D) of the Act regarding financial contribution; section 771(5)(E) of the Act regarding benefit; and section 771(5A) of the Act regarding specificity.

Preliminary Results of Review

We preliminarily find the following net countervailable subsidy rate exists for the period March 25, 2021, through December 31, 2021:

Producer/exporter | Subsidy rate (percent ad valorem)
CS Wind Malaysia Sdn. Bhd | 10.96

Disclosure and Public Comment

We intend to disclose to interested parties the calculations performed for these preliminary results within five days of the publication of this notice.⁸ Pursuant to 19 CFR 351.309(c), interested parties may submit case briefs at a date to be determined. Rebuttal briefs, limited to issues raised in the case briefs, may be filed no later than seven days after the date for filing case briefs.⁹ Parties who submit case briefs or rebuttal briefs in this proceeding are encouraged to submit with each argument: (1) a statement of the issue; (2) a brief summary of the argument; and (3) a table of authorities.¹⁰ Case and rebuttal briefs should be filed using ACCESS ¹¹ and must be served on interested parties.¹² Executive summaries should be limited to five pages total, including footnotes. Note that Commerce has modified certain of its requirements for serving documents containing business proprietary information, until further notice.¹³

⁸ See 19 CFR 351.224(b).

⁹ See 19 CFR 351.309(d); see also Temporary Rule Modifying AD/CVD Service Requirements Due to COVID-19; Extension of Effective Period, 85 FR 41363 (July 10, 2020) (Temporary Rule).

¹⁰ See 19 CFR 351.309(c)(2) and (d)(2).

¹¹ See generally 19 CFR 351.303.

¹² See 19 CFR 351.303(f).

¹³ See Temporary Rule.

Interested parties who wish to request a hearing must submit a written request to the Assistant Secretary for Enforcement and Compliance, filed electronically via ACCESS.¹⁴ Requests should contain: (1) the party's name, address, and telephone number; (2) the number of participants; and (3) a list of issues to be discussed. Issues raised in the hearing will be limited to those raised in the respective case and rebuttal briefs. If a request for a hearing is made, Commerce intends to hold the hearing at a time and date to be determined. A hearing request must be filed electronically using ACCESS and received in its entirety by 5:00 p.m. Eastern Time within 30 days after publication of this notice.

¹⁴ See 19 CFR 351.310(c).

Assessment Rates

Pursuant to section 751(a)(1) of the Act, Commerce shall determine, and CBP shall assess, countervailing duties on all appropriate entries of subject merchandise covered by this review.¹⁵ For the companies for which this review is rescinded, we intend to issue appropriate assessment instructions to CBP no earlier than 35 days after the date of publication of this notice in the Federal Register.

¹⁵ See 19 CFR 351.212(b)(1).

For CS Wind, Commerce will instruct CBP to assess countervailing duties on all appropriate entries at the subsidy rates calculated in the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for the company listed above on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Final Results of Review

Unless otherwise extended, Commerce intends to issue the final results of this administrative review, including the results of its analysis of the issues raised in any written briefs, not later than 120 days after the date of publication of this notice, pursuant to section 751(a)(3)(A) of the Act and 19 CFR 351.213(h)(1).

Notification to Interested Parties

We are issuing and publishing these results in accordance with sections 751(a)(1) and 777(i)(1) of the Act, and 19 CFR 351.213 and 19 CFR 351.221(b)(4).

Dated: August 30, 2023.
Lisa W. Wang,
Assistant Secretary for Enforcement and Compliance.

Appendix

List of Topics Discussed in the Preliminary Decision Memorandum

I. Summary

II. Background

III. Period of Review

IV. Partial Rescission of Administrative Review

V. Scope of the Order

VI. Subsidies Valuation Information

VII. Use of Facts Otherwise Available

VIII. Analysis of Programs

IX. Recommendation

[FR Doc. 2023-19207 Filed 9-6-23; 8:45 am]

BILLING CODE 3510-DS-P